DEPARTMENT OF HOUSING AND URBAN DEVELOPMENT

[Docket No. FR-4978-N-03]

Notice of Proposed Information Collection for Public Comment; Indian Housing Operating Cost Study

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: June 13, 2005.

ADDRESSES: Interested persons are invited to submit comments regarding this proposal. Comments should refer to the proposal by name/or OMB Control number and should be sent to: Aneita Waites, Reports Liaison Officer, Public and Indian Housing, Department of Housing and Urban Development, 451 7th Street, SW., Room 4114, Washington, DC 20410-5000.

FOR FURTHER INFORMATION CONTACT: Aneita Waites, (202) 708-0713, extension 4114, for copies of proposed forms and/or other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Indian Housing Operating Cost Study, 1937 Act Housing Operating Costs Survey.

OMB Control Number: 2577-XXXX [to be assigned].

Description of the need for the information and proposed use: The Indian Housing Block Grant (IHBG) formula uses Allowable Expense Level (AEL) data in determining the operating subsidy portion of the IHBG grant for Tribes that continue to operate housing units developed under 1937 Act programs. During recent Formula Negotiated Rulemaking Committee sessions several Committee members indicated that AEL did not adequately recognize the real cost of operating housing in Indian Country and that the AEL values needed to be replaced with a more current, accurate measure of the costs to operate housing in tribal areas. HUD committed to working with the Tribes to address this concern. There is no database with information about current operating costs of 1937 Act housing programs in Indian Country. The information gathered in this form will be used to establish a current, accurate cost database, and will support continued discussions on the role of AEL in the IHBG formula.

Agency form number, if applicable: Not applicable.

Members of affected public: Tribal Governments.

Estimation of the total number of hours needed to prepare the information collection including number of respondents: 269 tribally designated housing entities (TDHEs) manage the 1937 Act housing for Tribes. Estimated response time is 2 hours. Estimated total responses based on 75% return rate is 202. Estimated total reporting burden is 404 hours.

Status of the proposed information collection: New collection.

Authority: Section 3506 of the Paperwork Reduction Act of 1995, 44 U.S.C. Chapter 35, as amended.

Dated: April 1, 2005.
Michael Liu,
Assistant Secretary for Public and Indian Housing.

[FR Doc. E5-1656 Filed 4-11-05; 8:45 am]

BILLING CODE 4210-27-P